ENVIRONMENTAL PROTECTION AGENCY

[EPA-HQ-OPP-2011-0374; FRL-12220-01-OCSPP]

Dimethyl Tetrachloroterephthalate (DCPA); Notice of Receipt of Requests to Voluntarily Cancel Pesticide Registrations

AGENCY: Environmental Protection Agency (EPA).

ACTION: Notice.

SUMMARY: In accordance with the Federal Insecticide, Fungicide, and Rodenticide Act (FIFRA), the Environmental Protection Agency (EPA or Agency) is issuing a notice of receipt of requests by the DCPA registrant to voluntarily cancel DCPA pesticide registrations. EPA intends to grant these requests at the close of the comment period for this announcement unless the Agency receives substantive comments within the comment period that would merit its further review of the requests, or unless the registrants withdraw its requests. If these requests are granted, any sale, distribution, or use of products listed in this notice will not be permitted after the registrations have been cancelled consistent with the terms as described in the final order.

DATES: Comments must be received on or before September 30, 2024.

ADDRESSES: Submit your comments, identified by docket identification (ID) number EPA-HQ-OPP-2011-0374, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: James Douglass, Pesticide Re-Evaluation Division (7508P), Office of Pesticide Programs, Environmental Protection Agency, 1200 Pennsylvania Ave. NW, Washington, DC 20460-0001; telephone number: 202-566-2343; email address: douglass.james@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from the DCPA registrant to cancel 3 pesticide products registered under FIFRA section 3 (7 U.S.C. 136a) or section 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all the affected registrations.

Table 1—Registrations With Pending Requests for Cancellation
Registration No. | Company No. | Product name | Active ingredients
5481-495 | 5481 | Technical Chlorthal Dimethyl | Dimethyl tetrachloroterephthalate (DCPA).
5481-487 | 5481 | Dacthal Flowable Herbicide | DCPA.
WI050002 | 5481 | Dacthal W-75 Herbicide | DCPA.

Table 2 of this unit includes the name and address of record for the DCPA registrant of the products in Table 1 of this unit, in sequence by EPA company number. This number corresponds to the first part of the EPA registration numbers of the products listed in this unit.

Table 2—Registrant Requesting Voluntary Cancellation
EPA company No. | Company name and address
5481 | AMVAC Chemical Corporation, 4695 MacArthur Court, Suite 1200, Newport Beach, CA 92660.

III. What is the Agency's authority for taking this action?

FIFRA section 6(f)(1) (7 U.S.C. 136d(f)(1)) provides that a registrant of a pesticide product may at any time request that any of its pesticide registrations be canceled. FIFRA further provides that, before acting on the request, EPA must publish a notice of receipt of any such request in the Federal Register.

FIFRA section 6(f)(1)(B) (7 U.S.C. 136d(f)(1)(B)) requires that before acting on a request for voluntary cancellation, EPA must provide a 30-day public comment period on the request for voluntary cancellation or use termination. In addition, FIFRA section 6(f)(1)(C) (7 U.S.C. 136d(f)(1)(C)) requires that EPA provide a 180-day comment period on a request for voluntary cancellation or termination of any minor agricultural use before granting the request, unless:

1. The registrants request a waiver of the comment period; or

2. The EPA Administrator determines that continued use of the pesticide would pose an unreasonable adverse effect on the environment.

The registrant in Table 2 of Unit II. has requested that EPA waive the 180-day comment period. Accordingly, EPA will provide a 30-day comment period on the proposed requests.

IV. Procedures for Withdrawal of Request

If the registrant decides to withdraw a request for cancellation, it should submit such withdrawal request in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Upon cancellation of the products identified in Table 1 of Unit II., EPA anticipates prohibiting registrants and persons other than registrants to sell, distribute, or use existing stocks of these products effective the date of that the cancellation notice is published in the Federal Register. As of the publication date of this notice, all products identified in Table 1 of Unit II. are subject to a prohibition on sale, distribution, and use pursuant to the Agency's August 6, 2024. issuance of an Emergency Order of Suspension. See 89 FR 64445, August 7, 2024 (FRL-12147-01-OCSPP). Registrants will be prohibited from selling or distributing the pesticides identified in Table 1 of Unit II., except for export consistent with FIFRA section 17 or for proper disposal. Persons other than registrants will not be allowed to sell, distribute, or use existing stocks.

Authority: 7 U.S.C. 136 et seq.

Dated: August 26, 2024.
Jean Overstreet,
Director, Pesticide Re-Evaluation Division, Office of Pesticide Programs.

[FR Doc. 2024-19424 Filed 8-28-24; 8:45 am]

BILLING CODE 6560-50-P